SECURITIES AND EXCHANGE COMMISSION

[SEC File No. 270-095, OMB Control No. 3235-0084]

Proposed Collection; Comment Request; Extension: Rule 17Ac2-1

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in Rule 17Ac2-1 (17 CFR 240.17Ac2-1), under the Securities Exchange Act of 1934 (15 U.S.C. 78a et seq.). The Commission plans to submit this existing collection of information to the Office of Management and Budget (“OMB”) for extension and approval.

Rule 17Ac2-1, pursuant to Section 17A(c) of the Exchange Act, generally requires transfer agents for whom the Commission is the transfer agent's Appropriate Regulatory Agency (“ARA”), to file an application for registration with the Commission on Form TA-1 and to amend their registrations under certain circumstances.

Specifically, Rule 17Ac2-1 requires transfer agents to file a Form TA-1 application for registration with the Commission where the Commission is their ARA. Such transfer agents must also amend their Form TA-1 if the existing information on their Form TA-1 becomes inaccurate, misleading, or incomplete within 60 days following the date the information became inaccurate, misleading, or incomplete. Registration filings on Form TA-1 and amendments thereto must be filed with the Commission electronically, absent an exemption, on EDGAR pursuant to Regulation S-T (17 CFR 232).

The Commission annually receives approximately 209 filings on Form TA-1 from transfer agents required to register as such with the Commission. Included in this figure are approximately 196 amendments made annually by transfer agents to their Form TA-1 as required by Rule 17Ac2-1(c) to address information that has become inaccurate, misleading, or incomplete and approximately 13 new applications by transfer agents for registration on Form TA-1 as required by Rule 17Ac2-1(a). Based on past submissions, the staff estimates that on average approximately twelve hours are required for initial completion of Form TA-1 and that on average one and one-half hours are required for an amendment to Form TA-1 by each such firm. Thus, the subtotal burden for new applications for registration filed on Form TA-1 each year is approximately 156 hours (12 hours times 13 filers = 156) and the subtotal burden for amendments to Form TA-1 filed each year is approximately 294 hours (1.5 hours × 196 filers = 294). The cumulative total is approximately 450 burden hours per year (156 hours plus 294 hours).

Of the approximately 450 hours per year associated with Rule 17Ac2-1, the Commission staff estimates that (i) sixty percent (270 hours) are spent by compliance staff at an estimated hourly wage of $344, for a total of $92,880 per year (270 hours × $344 per hour = $92,880 per year; (ii) forty percent (180 hours) are spent by attorneys at an estimated hourly wage of $462, for a total of $83,160 per year (180 hours × $462 per hour = $83,160 per year); and (iii) the total internal cost of compliance associated with the Rule is thus approximately $176,040 per year ($92,880 in compliance staff costs + $83,160 in attorney costs = $176,040 per year).

Written comments are invited on: (a) whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by June 18, 2024.

An agency may not conduct or sponsor, and a person is not required to respond to, a collection of information under the PRA unless it displays a currently valid OMB control number.

Please direct your written comments to: David Bottom, Director/Chief Information Officer, Securities and Exchange Commission, c/o John Pezzullo, 100 F Street NE, Washington, DC 20549, or send an email to: PRA_Mailbox@sec.gov.

Dated: April 16, 2024.
Vanessa A. Countryman,
Secretary.

[FR Doc. 2024-08413 Filed 4-18-24; 8:45 am]

BILLING CODE 8011-01-P